OFFICE OF PERSONNEL MANAGEMENT

Notice of Submission for Approval: Information Collection 3206-0150; Fingerprint Chart Standard Form 87, SF 87

AGENCY: U.S. Office of Personnel Management.

ACTION: 30-Day notice and request for comments.

SUMMARY: The Federal Investigative Services (FIS), U.S. Office of Personnel Management (OPM) is notifying the general public and other Federal agencies that OPM is seeking Office of Management and Budget (OMB) approval of a revised information collection, control number 3206-0150, Fingerprint Chart Standard Form 87, SF 87. As required by the Paperwork Reduction Act of 1995, (Pub. L. 104-13, 44 U.S.C. chapter 35), as amended by the Clinger-Cohen Act (Pub. L. 104-106), OPM is providing an additional 30 days for public comments. OPM previously solicited comments for this collection, with a 60-day public comment period, at 81 FR 2924 (January 19, 2016).

DATES: Comments are encouraged and will be accepted until May 2, 2016. This process is conducted in accordance with 5 CFR 1320.10.

ADDRESSES: Interested persons are invited to submit written comments on the proposed information collection to the Office of Information and Regulatory Affairs, Office of Management Budget, 725 17th Street NW., Washington, DC 20503, Attention: Desk Officer for the Office of Personnel Management or sent via electronic mail to oira_submission@omb.eop.gov or faxed to (202) 395-6974.

FOR FURTHER INFORMATION CONTACT: A copy of this information collection, with applicable supporting documentation, may be obtained by contacting Federal Investigative Services, U.S. Office of Personnel Management, 1900 E Street NW., Washington, DC 20415, Attention: Donna McLeod or by electronic mail at FISFormsComments@opm.gov.

SUPPLEMENTARY INFORMATION: This notice announces that OPM has submitted to OMB a request for review and clearance of a revised information collection, control number 3206-0150, Fingerprint Chart Standard Form 87, SF 87. The public has an additional 30-day opportunity to comment.

The SF 87 is a fingerprint card, which is utilized to conduct a national criminal history check, which is a component of the background investigation. The SF 87 is completed by individuals who are under consideration for appointment to or retention in a Federal position or performance of work on behalf of the Government. The SF 87 fingerprint chart is used in background investigations to establish that such persons are eligible for logical and physical access to Government facilities and systems; suitable or fit to perform work for, on behalf of, the Federal Government; suitable for employment or retention in a public trust position, eligible for employment or retention in a national security position, and/or eligible for access to classified national security information. The SF 87 form is only utilized when a hardcopy fingerprint chart must be obtained, as opposed to the electronic collection of fingerprints.

Due to the SF 87 form's small size and the fact that it may be maintained in multiple systems of records, it does not list all potentially applicable routine uses under the Privacy Act. Accordingly 5 U.S.C. 552a(e)(3)(C) requires that an agency issuing the SF 87 form must also give the subject a copy of the routine uses for the applicable system of records and FBI's Privacy Act Notice and Privacy Rights. OPM proposes to add clarifying language to the Purpose, Authority, and Privacy Statement to further explain uses of the form.

The 60-day Federal Register Notice was published on January 19, 2016 (81 FR 2924). One comment was received from an individual from the Department of Defense Education Activity (DoDEA). DoDEA commented that without using Fingerprint Chart Standard Form 87, an alternative form or process should be made available to comply with the Crime Control Act of 1990 (Act, and House Bill (HB) 737). OPM did not accept DoDEA's recommendation. OPM already does provide for the electronic collection of fingerprints. Use of the SF 87 is limited only to situations where electronic collection of fingerprints cannot be utilized.

Analysis

Agency: Federal Investigative Services, U.S. Office of Personnel Management.

Title: Fingerprint Chart Standard Form 87, SF 87.

OMB Number: 3206-0150.

Affected Public: Individuals who are under consideration for appointment to or retention in a Federal position or performance of work on behalf of the Government.

Number of Respondents: 52,318.

Estimated Time per Respondent: 5 minutes.

Total Burden Hours: 4,360.

U.S. Office of Personnel Management.
Beth F. Cobert,
Acting Director.

[FR Doc. 2016-07406 Filed 3-30-16; 8:45 am]

BILLING CODE 6325-53-P